ENVIRONMENTAL PROTECTION AGENCY

[ER-FRL-6626-7]

Environmental Impact Statements; Notice of Availability

Responsible Agency: Office of Federal Activities, General Information (202) 564-7167 or www.epa.gov/oeca/ofa. Weekly receipt of Environmental Impact Statements filed February 11, 2002 through February 15, 2002 pursuant to 40 CFR 1506.9.

EIS No. 020061, Final EIS, SFW, WA, Icicle Creek Restoration Creek Project, To Protect and Aid in the Recovery of Threatened and Endangered Fish, Leavenworth National Fish Hatchery (LNFH), COE Section 404 and NPDES Permits, Leavenworth, WA. Wait Period Ends: March 25, 2002, Contact: Greg Pratschner (509) 548-7641.

EIS No. 020062, Draft Supplement, FHW, VA, U.S. Route 29 Bypass Improvement, between Route 250 Bypass in Charlottesville and the South Rivanna River in Albemarle, Updated Information, To consider the Effects of the Selected Alternative on the South Fork Rivanna River Reservoir and its Watershed, US COE Section 404 Permit, Albemarle County, VA, Comment Period Ends: April 16, 2002, Contact: Edward S. Sundra (804) 775-3338.

EIS No. 020063, Draft EIS, FHW, AR, Springdale Northern Bypass Project, US Highway 412 Construction, Funding, NPDES Permit, Benton and Washington Counties, AR , Comment Period Ends: April 15, 2002, Contact: Randal Looney (501) 324-5625.

EIS No. 020064, Final EIS, USN, CA, Point Molate Property Naval Fuel Depot (NFD) for the Disposal and Reuse, Implementation, Fleet and Industrial Supply Center, City of Richmond, Contra Costa County, CA , Wait Period Ends: March 25, 2002, Contact: Larry Dean (619) 532-0936.

EIS No. 020065, Draft EIS, FAA, PA, MD, VA, WV, DC, Potomac Consolidated Terminal (PCT) Radar Approach Control Facility (TRACON) Airspace Redesign, in Baltimore-Washington Metropolitan Area, Newly Consolidated (TRACON), Improved Aircraft Performance, and Emerging ATC Technologies, PA, MD, DE, VA, WV and DC, Comment Period Ends: May 28, 2002, Contact: William Carver (800) 762-9531.

EIS No. 020066, Draft EIS, COE, CO, Rueter-Hess Reservoir Project, Construction and Operation, Proposed Water Supply Reservoir and Off-Stream Dam, COE Section 404 Permit, Endangered Species Act (Section &) and Right-of-Way Use Permit, Located on Newlin Gulch along Cherry Creek, Town of Parker, Douglas County, CO , Comment Period Ends: April 08, 2002, Contact: Rodney J. Schwartz (402) 221-4143.

EIS No. 020067, Final EIS, USN, FL, Renewal of Authorization to Use Pinecastle Range, Continue Use of the Range for a 20-Year Period, Special Use Permit Issuance, Ocala National Forest, Marion and Lake Counties, FL , Wait Period Ends: March 25, 2002, Contact: Darrell Molzan (843) 820-5796.

EIS No. 020068, Final EIS, FRC, CA, Big Creek No. 4 Hydroelectric Project, Issuing New License, (FERC Project No. 2017), San Joaquin River Basin, Sierra National Forest, Fresno, Madera and Tulare Counties, CA , Wait Period Ends: March 25, 2002, Contact: John Ramer (202) 219-2833.

This document is available on the Internet at: http://rimsweb1.ferc.gov.

EIS No. 020069, Draft EIS, FTA, TX, Southeast Corridor Light Rail Transit Project, Construction and Operation, Funding, NPDEs Permit and COE Section 404 Permit, Mobility 2025 Plan Update, Dallas Area Rapid Transit (DART), the City of Dallas, Dallas County, TX , Comment Period Ends: April 08, 2002, Contact: Jesse Balleza (817) 860-9663.

EIS No. 020070, Draft EIS, FTA, NV, Las Vegas Resort Corridor Project, Transportation Improvements, Funding, City of Las Vegas, Clark County, NV, Comment Period Ends: April 08, 2002, Contact: Ray Sukys (415) 744-3115.

EIS No. 020071, Draft EIS, BPA, WA, OR, Wallula Power Project and Wallula-McNary Transmission Line Project, Construction and Operation, 1300 megawatt(MW) Natural Gas Fired Combustion Gas Turbine Facility and a new 500-kilovolt(kV) Transmission Line and Upgrade of the McNary Substation, US COE Section 10 and 404 Permits, Walla-Walla Co., WA and Umatilla Co., OR, Comment Period Ends: April 11, 2002, Contact: Donald L. Rose (503) 230-3796.

This document is available on the Internet at: http://www.efsec.wa.gov.

Dated: February 19, 2002.
Joseph C. Montgomery,
Director, NEPA Compliance, Office of Federal Activities.

[FR Doc. 02-4271 Filed 2-21-02; 8:45 am]

BILLING CODE 6560-50-P